DEPARTMENT OF AGRICULTURE

Food Safety and Inspection Service

[Docket No. FSIS-2011-0016]

National Advisory Committee on Microbiological Criteria for Foods

AGENCY: Food Safety and Inspection Service, USDA.

ACTION: Notice of public meeting.

SUMMARY: This notice is announcing that the National Advisory Committee on Microbiological Criteria for Foods (NACMCF) will hold public meetings of the full Committee and subcommittees on September 27-30, 2011. The Committee will discuss: (1) Control strategies for reducing foodborne Norovirus infections, and (2) Study of microbiological criteria as indicators of process control or insanitary conditions.

DATES: The full Committee will hold an open meeting on Friday, September 30, 2011, from 9 a.m. to 12 p.m. The Subcommittee on control strategies for reducing foodborne Norovirus infections and the Subcommittee on study of microbiological criteria as indicators of process control or insanitary conditions will hold concurrent open meetings on Tuesday, September 27, Wednesday, September 28, and Thursday, September 29, 2011, from 8:30 a.m. to 5 p.m.

ADDRESSES: The September 27-29, 2011, subcommittee meetings will be held at the Patriot's Plaza 3, 9th Floor OPHS Conference Rooms, 355 E Street, SW., Washington, DC 20024. The September 30, 2011, full Committee meeting will be held in the conference room at the south end of the U.S. Department of Agriculture (USDA) cafeteria located in the South Building, 1400 Independence Avenue, SW., Washington, DC 20250. All documents related to the full Committee meeting will be available for public inspection in the FSIS Docket Room, USDA, 1400 Independence Avenue, SW., Patriots Plaza 3, Mailstop 3782, Room 163A, Washington, DC 20250-3700, between 8:30 a.m. and 4:30 p.m., Monday through Friday, as soon as they become available. The NACMCF documents will also be available on the Internet at http://www.fsis.usda.gov/Regulations_&_Policies/Federal_Register_Notices/index.asp.

FSIS will finalize an agenda on or before the meeting dates and post it on the FSIS Web page at http://www.fsis.usda.gov/News/Meetings_&_Events/. Please note that the meeting agenda is subject to change due to the time required for Committee discussions; thus, sessions could start or end earlier or later than anticipated. Please plan accordingly if you would like to attend a particular session or participate in a public comment period.

Also, the official transcript of the September 30, 2011, full Committee meeting, when it becomes available, will be kept in the FSIS Docket Room at the above address and will also be posted on http://www.fsis.usda.gov/About/NACMCF_Meetings/.

The mailing address for the contact person is: Karen Thomas-Sharp, USDA, FSIS, Office of Public Health Science, Stop 3777, PP 3, #47, 1400 Independence Avenue, SW., Washington, DC 20250.

FOR FURTHER INFORMATION CONTACT: Persons interested in making a presentation, submitting technical papers, or providing comments at the September 30, plenary session should contact Karen Thomas-Sharp, phone (202) 690-6620, fax (202) 690-6334, e-mail: Karen.thomas-sharp@fsis.usda.gov or at the mailing address above. Persons requiring a sign language interpreter or other special accommodations should notify Mrs. Thomas-Sharp by September 15, 2011.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available for viewing on the FSIS Internet Web page at http://www.fsis.usda.gov/About/NACMCF_Charter/.

The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the Centers for Disease Control and Prevention and the Departments of Commerce and Defense.

Dr. Elisabeth A. Hagen, Under Secretary for Food Safety, USDA, is the Committee Chair; Mr. Michael Landa, Acting Director of the Food and Drug Administration's Center for Food Safety and Applied Nutrition (CFSAN), is the Vice-Chair; and Ms. Gerri Ransom, FSIS, is the Executive Secretary.

At the subcommittee meetings the week of September 27-29, 2011, the groups will discuss:

• Control strategies for reducing foodborne Norovirus infections, and

• Study of microbiological criteria as indicators of process control or insanitary conditions.

Documents Reviewed by NACMCF

FSIS intends to make available to the public all materials that are reviewed and considered by NACMCF regarding its deliberations. Generally, these materials will be made available as soon as possible after the full Committee meeting. Further, FSIS intends to make these materials available in electronic format on the FSIS Web page (http://www.fsis.usda.gov), as well as in hard copy format in the FSIS Docket Room. Often, an attempt is made to make the materials available at the start of the full Committee meeting when sufficient time is allowed in advance to do so.

Disclaimer: NACMCF documents and comments posted on the FSIS Web site are electronic conversions from a variety of source formats. In some cases, document conversion may result in character translation or formatting errors. The original document is the official, legal copy.

In order to meet the electronic and information technology accessibility standards in Section 508 of the Rehabilitation Act, NACMCF may add alternate text descriptors for non-text elements (graphs, charts, tables, multimedia, etc.). These modifications only affect the online copies of the documents.

Copyrighted documents will not be posted on the FSIS Web site, but will be available for inspection in the FSIS Docket Room.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that minorities, women, and persons with disabilities are aware of this notice, FSIS will announce it online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/News_&_Events/Email_Subscription/. Options range from recalls to export information to regulations, directives and notices. Customers can add or delete subscriptions themselves, and have the option to password protect their accounts.

Done at Washington, DC on September 2, 2011.
Alfred V. Almanza,
Administrator.

[FR Doc. 2011-23173 Filed 9-9-11; 8:45 am]

BILLING CODE 3410-DM-P